FEDERAL COMMUNICATIONS COMMISSION

Sunshine Act Meeting; Open Commission Meeting Via Conference Call; Tuesday, December 30, 2008

December 23, 2008.

The Federal Communications Commission will hold an open meeting via a conference call regarding Commission announcements, Tuesday, December 30, 2008, which is scheduled to commence at 11 a.m.

Meeting participants can listen to the “audio only” of the meeting by:

—Visiting Room TW-C305, at 445 12th Street, SW., Washington, DC (sign language interpreters, open captioning, and assistive listening devices will be provided on site);

—Calling 1-888-603-9685 and using pass code 3950472. Call in capacity may be limited depending on the volume of calls. Callers may call the toll free number up to ten minutes before the scheduled meeting time; or

—Accessing the FCC's Audio/Video Events Web page at http://www.fcc.gov/realaudio (with open captioning over the Internet).

Additional information concerning this meeting may be obtained from Audrey Spivack or David Fiske, Office of Media Relations, (202) 418-0500; TTY 1-888-835-5322.

Federal Communications Commission.
William F. Caton,
Deputy Secretary.

[FR Doc. E8-31141 Filed 12-24-08; 4:15 pm]

BILLING CODE 6712-01-P